DEPARTMENT OF COMMERCE

International Trade Administration

[C-489-819]

Steel Concrete Reinforcing Bar From the Republic of Turkey: Preliminary Negative Countervailing Duty Determination, Preliminary Negative Critical Circumstances Determination, and Alignment of Final Determination With Final Antidumping Determination

AGENCY: Enforcement and Compliance, formerly Import Administration, International Trade Administration, Department of Commerce.

SUMMARY: The Department of Commerce (the Department) preliminarily determines that countervailable subsidies are not being provided to producers and exporters of steel concrete reinforcing bar (rebar) from the Republic of Turkey (Turkey). The period of investigation is January 1, 2012, through December 31, 2012. Interested parties are invited to comment on this preliminary determination.

DATES: Effective Date: February 26, 2014.

FOR FURTHER INFORMATION CONTACT: Kristen Johnson or Robert Copyak, Office III, AD/CVD Operations, Enforcement and Compliance, International Trade Administration, U.S. Department of Commerce, 14th Street and Constitution Avenue NW., Washington, DC 20230; telephone: (202) 482-4793 and (202) 482-2209, respectively.

Alignment of Final Countervailing Duty (CVD) Determination With Final Antidumping Duty (AD) Determination

On the same day that the Department initiated this countervailing duty (CVD) investigation, the Department also initiated antidumping duty (AD) investigations of rebar from Mexico and Turkey.¹ The CVD investigation and the AD investigations cover the same merchandise. On February 14, 2014, in accordance with section 705(a)(1) of the Tariff Act of 1930, as amended (Act), alignment of the final CVD determination with the final AD determination of rebar from Turkey was requested by the petitioner.² Therefore, in accordance with section 705(a)(1) of the Act and 19 CFR 351.210(b)(4), we are aligning the final CVD determination with the final AD determination. Consequently, the final CVD determination will be issued on the same date as the final AD determination, which is currently scheduled to be issued no later than July 2, 2014, unless postponed.

¹ See Steel Concrete Reinforcing Bar From Turkey: Initiation of Countervailing Duty Investigations, 78 FR 60831 (October 2, 2013) and Steel Concrete Reinforcing Bar From Mexico and Turkey: Initiation of Antidumping Duty Investigations, 78 FR 60827 (October 2, 2013).

² See Letter from Petitioner regarding “Request to Align the Countervailing Duty Final Determination With the Antidumping Duty Final Determination” (February 14, 2014).

Scope of the Investigation

The merchandise subject to this investigation is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). HTSUS numbers are provided for convenience and customs purposes; however, the written description of the scope remains dispositive.

Methodology

The Department is conducting this CVD investigation in accordance with section 701 of the Act. For a full description of the methodology underlying our preliminary conclusions, see the Preliminary Decision Memorandum.³ The Preliminary Decision Memorandum is a public document and is on file electronically via Enforcement and Compliance's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly at http://enforcement.trade.gov/frn/. The signed Preliminary Decision Memorandum and the electronic versions of the Preliminary Decision Memorandum are identical in content.

³ See Memorandum from Christian Marsh, Deputy Assistant Secretary for Antidumping and Countervailing Duty Operations, to Paul Piquado, Assistant Secretary for Enforcement and Compliance regarding “Decision Memorandum for the Preliminary Determination in the Countervailing Duty Investigation of Steel Concrete Reinforcing Bar From the Republic of Turkey,” dated concurrently with this notice (Preliminary Decision Memorandum).

Critical Circumstances

The Department preliminarily determines that critical circumstances do not exist for imports of rebar from Turkey. Although the Department preliminarily determines that Habas Sinai ve Tibbi Gazlar Istihsal Endustrisi A.S. and Icdas Celik Enerji Tersane ve Ulasim Sanayi A.S. benefited from programs that are inconsistent with the Subsidies Agreement, the companies' shipment data do not indicate a massive increase in shipments of subject merchandise to the United States. Additionally, the shipment data from the U.S. International Trade Commission's dataweb do not indicate a massive increase in shipments of subject merchandise by the “all other” companies. Therefore, we preliminarily determine that critical circumstances do not exist with regard to imports of rebar from Turkey. For further information on the Department's critical circumstances analysis, see the Preliminary Decision Memorandum.

Negative Preliminary Determination and Suspension of Liquidation

For this preliminary determination, we have calculated a de minimis countervailable subsidy rate for each individually investigated producer/exporter of the subject merchandise. Consistent with section 703(b)(4)(A) of the Act, we are disregarding these rates and preliminarily determine that no countervailable subsides are being provided to producers/exporters of the subject merchandise in Turkey. Because the rates calculated for the individually investigated companies are de minimis, the all others rate is also de minimis.

We preliminarily determine the countervailable subsidy rates to be:

Company | Subsidy rate (percent (de minimis))
Habas Sinai ve Tibbi Gazlar Istihsal Endustrisi A.S | 0.78
Icdas Celik Enerji Tersane ve Ulasim Sanayi A.S | 0.10

Because we preliminarily determine that the CVD rates in this investigation are de minimis, we will not direct U.S. Customs and Border Protection to suspend liquidation of entries of the subject merchandise from Turkey.

Disclosure and Public Comment

The Department intends to disclose to interested parties the calculations performed in connection with this preliminary determination within five days of its public announcement.⁴ Interested parties may submit case and rebuttal briefs. For a schedule of the deadlines for filing case briefs, rebuttal briefs, and hearing requests, see the Preliminary Decision Memorandum.

⁴ See 19 CFR 351.224(b).

This determination is issued and published pursuant to sections 703(f) and 777(i) of the Act.

Dated: February 19, 2014.
Paul Piquado,
Assistant Secretary for Enforcement and Compliance.

Appendix—List of Topics Discussed in the Preliminary Decision Memorandum

1. Scope Comments

2. Scope of the Investigation

3. Injury Test

4. Critical Circumstances

5. Subsidies Valuation

6. Analysis of Programs

7. ITC Notification

8. Disclosure and Public Comment

9. Verification

[FR Doc. 2014-04221 Filed 2-25-14; 8:45 am]

BILLING CODE 3510-DS-P